COMMODITY FUTURES TRADING COMMISSION

Notice of Public Meeting

AGENCY: Commodity Futures Trading Commission.

ACTION: Notice of public meeting.

SUMMARY: Notice is hereby given that the Commodity Futures Trading Commission (“Commission”) will hold a public roundtable meeting at which invited participants will discuss clearing issues. Participants will be announced at a later date.

DATES: Thursday, August 1, 2002, from 1 p.m. to 5 p.m.

ADDRESSES: 1155 21st Street, NW., Washington, DC, Lobby Level Hearing Room located at Room 1000. Status: Open.

FOR FURTHER INFORMATION CONTACT: Jean A. Webb, 202-418-5100.

Issued in Washington, DC this 10th day of July, 2002.
By the Commodity Futures Trading Commission.
Jean A. Webb,
Secretary of the Commission.

[FR Doc. 02-17848 Filed 7-15-02; 8:45 am]

BILLING CODE 6351-01-M